DEPARTMENT OF AGRICULTURE

Food and Nutrition Service

Agency Information Collection Activities: Supplemental Nutrition Assistance Program (SNAP) Repayment Demand and Program Disqualification

AGENCY: Food and Nutrition Service (FNS), Department of Agriculture.

ACTION: Notice.

SUMMARY: In accordance with the Paperwork Reduction Act of 1995, this notice invites the general public and other public agencies to comment on this proposed information collection. This is a revision of currently approved information collection requirements associated with initiating collection actions against individuals/households (I/HH) who have received an overissuance in SNAP.

DATES: Written comments must be received on or before July 9, 2024.

ADDRESSES: Comments may be sent to: Maribelle Balbes, Food and Nutrition Service, U.S. Department of Agriculture, 1320 Braddock Place, 5th Floor, Alexandria, VA 22314. Comments may also be submitted via email to snapsab@usda.gov. Comments will also be accepted through the Federal eRulemaking Portal. Go to http://www.regulations.gov and follow the online instructions for submitting comments electronically.

All responses to this notice will be summarized and included in the request for Office of Management and Budget approval. All comments will be a matter of public record.

FOR FURTHER INFORMATION CONTACT: Requests for additional information or copies of this information collection should be directed to Jennifer Ragan at snapsab@usda.gov, 703-457-6786.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Supplemental Nutrition Assistance Program Repayment Demand and Program Disqualification.

Form Number: N/A.

OMB Control Number: 0584-0492.

Expiration Date: 07/31/2024.

Type of Request: Revision of a currently approved collection.

Abstract: Section 13(b) of the Food and Nutrition Act of 2008, as amended (7 U.S.C. 2022(b)), and SNAP regulations at 7 CFR 273.18 require State agencies to initiate collection action against I/HH that have been overissued benefits. To initiate collection action, State agencies must provide an affected I/HH with written notification informing the I/HH of the claim and demanding repayment. This process is automated in most State agencies.

SNAP regulations at 7 CFR 273.16(e)(3) require State agencies to investigate any case of suspected fraud and, where applicable, make an Intentional Program Violation (IPV) determination either administratively or judicially. Notifications and activities involved in the IPV process include:

—The State agency providing written notification informing an individual suspected of committing an IPV of an impending administrative disqualification hearing or court action;

—An individual opting to accept the disqualification and waiving the right to an administrative disqualification hearing or court action by signing either a waiver to an administrative disqualification hearing or a disqualification consent agreement in cases of deferred adjudication and returning it to the State agency; and

—Once a determination is made regarding an IPV, the State agency sending notification to the affected individual of the action taken on the administrative disqualification hearing or court decision.

SNAP regulations at 7 CFR 273.16 require State agencies to use disqualified recipient data to ascertain the correct penalty for IPVs, based on prior disqualifications. State agencies determine this by accessing and reviewing records located in the Electronic Disqualified Recipient System (eDRS). eDRS is an automated system developed by the Food and Nutrition Service that contains records of disqualifications in every State. State agencies are also responsible for updating the system, as required at 7 CFR 237.16, which includes reporting disqualifications in eDRS as they occur and updating eDRS when records are no longer accurate, relevant, or complete.

This information collection covers activities associated with initiating overissuance collections and IPV determinations. The burden associated with reporting collections and other claims management information on the FNS-209 form is covered under the Food Program Reporting System, OMB control number 0584-0594, expiration date 09/30/2026. The burden associated with referring delinquent claims and receiving collections through the Treasury Offset Program is covered under currently approved OMB control number 0584-0446, expiration date 09/30/2025.

Summary of Estimated Burden

The burden consists of two major components: the initiation of overissuance collections and actions associated with IPV determinations. As an exception, due to the variances in data associated with implementing COVID flexibilities during the Public Health Emergency, a 3-year average for fiscal years 2021-2023 has been used to compare against the currently approved burden. The estimated total 3-year average annual burden for this collection is 99,786.9643 hours (69,343.3710 State agency reporting hours + 14,910.3556 I/HH reporting hours + 15,533.2377 State agency recordkeeping hours). The net aggregate change to this collection is a decrease of 35,739.02 total burden hours from the currently approved burden of 135,525.9843 hours. The estimated total annual responses for this collection is 1,498,759.9962 responses (547,029.3333 State agency reporting total annual response + 486,663.6667 I/HH reporting total annual responses + 465,066.9962 State agency recordkeeping total annual records). The burden hours associated with overissuance collection initiation and IPV activity have decreased due to a decrease in the number of claims established and the number of States initiating IPV activity against SNAP I/HH over the last 3 fiscal years (2021-2023).

Reporting

Affected Public: State, Local and Tribal government (State agency); I/HH.

Respondent Type: SNAP participants.

State Agency Reporting Burden

States have done these activities for many years. Based on prior experience in how long these activities take, FNS estimates it will take the 53 State agencies an average 7 minutes (0.1268 hours) to issue each letter or notice or take the actions described below. The following is a summary total for the activities described below.

Estimated Number of Respondents: 53.

Estimated Total Number of Responses per Respondent: 10,321.3082.

Estimated Total Annual Responses: 547,029.3333.

Estimated Time per Response: 0.1268.

Estimated Total Annual Reporting Burden: 69,343.3710.

Demand Letter for Overissuance 7 CFR 273.18 (a)(2)

Based on many years of doing these activities, FNS estimates it will take the 53State agencies 8 minutes (0.1336 hours) to issue a Demand Letter, and that they will issue 7,339.2642 letters each, for a total of 51,967.8616 hours. The prior approval included 74,787.2760 hours. The new burden estimate is 22,819.4144 fewer hours than the previously approved burden amount due to program adjustments. (53 State agencies * 7,339.2642 letters each * 8 minutes (0.1336 hours) = 51,967.8616 hours). Prior approval 74,787.2760 hours−51,967.8616 hours = 22,819.4144 hours less than the currently approved burden amount).

Notice for Hearing or Prosecution 7 CFR 273.16(e)(3)

FNS estimates that 53 State agencies will issue 745.3333 Notices for Hearing or Prosecution for a total of 39,502.6667 responses. FNS estimates it will take approximately 8 minutes (0.1336 hours) to issue a Notice for Hearing or Prosecution for an estimated 5,277.5563 total hours. The previously approved burden was 5,716.6104 hours. This represents a change of 439.0541 fewer hours associated with this burden due to program adjustments. (53 State agencies * 745.3333 responses * 8 minutes (0.1336 hours) = 5,277.5563 hours). Prior approval 5,716.6104 hours−5,277.5563 hours = 439.0541 hours less than previously approved burden.)

Action Taken on Hearing or Court Decision: For IPV Findings 7 CFR 273.16(e)(9)

FNS estimates that 53 State agencies will take action on 690.2516 IPV findings for a total of 36,583.3333 responses. FNS estimates that it will take approximately 10 minutes (0.1670 hours) for a State agency to take action on a court decision for IPV findings for a total of 6,109.4167 annual burden hours. This represents a change of 419.7823 fewer hours from the previously approved burden of 6,529.1990 hours due to program adjustments. (53 State agencies * 690.2516 responses * 10 minutes (0.167 hours) = 6,109.4167 hours). Prior approval hours 6,529.1990−6,109.4167 hours = 419.7823 hours less than previously approved burden.)

Action Taken on Hearing or Court Decision: For No IPV Findings 7 CFR 273.16(e)(9)

FNS estimates that 53 State agencies will take action on 83.1258 instances of no IPVs as a result of a hearing or court decision for a total of 4,405.6667 total responses. FNS estimates that it will take approximately 5 minutes (0.0835 hours) for a State agency to take action on a hearing or court decision for no IPV findings for a total of 367.8732 annual burden hours. This represents a change of 59.5912 additional burden hours from the previously approved burden of 308.2820 hours due to program adjustments. (53 State agencies * 83.1258 responses * 5 minutes (0.0835 hours) = 367.8732 hours). Prior approval 308.2820 hours−367.8732 hours = 59.5912 additional burden hours than previously reported.)

Electronic Disqualified Recipient System Breakout For eDRS Reporting 7 CFR 273.16(i)(2)(i)

FNS estimates that 53 State agencies will generate reporting from their eDRS system 690.2516 times for a total of 36,583.3333 annual responses. FNS estimates that it will take approximately 5 minutes (0.0835 hours) for a State agency to generate reporting from eDRS for a total of 3,054.7083 burden hours. This represents a change of 209.8912 fewer burden hours from the previously approved burden of 3,264.5995 hours due to program adjustments. (53 State agencies * 690.2516 responses * 5 minutes (0.0835 hours) = 3,054.7083 hours). Prior approval of 3,264.5995 hours−3,054.7083 hours = 209.8912 fewer burden hours than previously reported.)

Electronic Disqualified Recipient System Breakout: For Editing and Resubmission 7 CFR 272.1(f)(3)

FNS estimates that 53 State agencies will edit and resubmit reporting to the eDRS system 82.8302 times for a total of 4,390.0000 annual responses. FNS estimates that it will take approximately 10 minutes (0.167 hours) for a State agency to edit and resubmit reporting to eDRS for a total of 733.1300 burden hours. This represents a change of 50.3739 fewer burden hours from the previously approved 783.5039 hours due to program adjustments. (53 State agencies * 82.8302 responses * 10 minutes (0.167 hours) = 733.1300 hours). Prior approval of 783.5039 hours−733.1300 = 50.3739 fewer burden hours than previously reported.)

Electronic Disqualified Recipient System Breakout: For Penalty Checks using Mainframe 7 CFR 273.16(i)(4)

FNS estimates that 53 State agencies will use eDRS for penalty checks using the mainframe 690.2516 times for a total of 36,583.3333 annual responses. FNS estimates that it will take approximately 3 minutes (0.0501 hours) for a State agency to run a penalty check using the mainframe for a total of 1,832.8250 burden hours. This represents a change of 125.9347 fewer burden hours from the previously approved 1958.7597 hours due to program adjustments. (53 State agencies * 690.2516 responses * 3 minutes (0.0501 hours) = 1,832.8250 hours). Prior approval of 1958.7597 hours−1,832.8250 hours = 125.9347 less annual burden hours than previously reported.)

I/HH Reporting Burden

Based on prior experience in how long these activities take, FNS estimates it will take the 486,663.6667 I/HH respondents an average of less than 2 minutes (0.0306 hours) to respond as requested by the State agency. The following is a summary total for the activities related to I/HH reporting requirements as described below.

Estimated Number of Respondents: 486,663.6667.

Estimated Number of Responses per Respondent: 1.

Total Number of Annual Responses: 486,663.6667.

Estimated Time per Response: 0.0306.

Estimated Total Annual Reporting Burden: 14,910.3556.

Initiation of Overissuance Collection 7 CFR 273.18(a)(2)

Based on many years of reporting these activities, FNS estimates approximately 388,981.0000 respondents will respond 1 time for a demand letter for overissuance for a total of 388,981.0000 annual responses. FNS estimates that it will take approximately 2 minutes (0.0334 hours) for a respondent to respond to a demand letter for a total estimate of 12,991.9654 annual burden hours. This represents a change of 5,704.8536 fewer annual burden hours from the previously approved burden of 18,696.8190 hours due to a program adjustment. (388,981.0000 respondents * 1 response per respondent * 2 minutes (0.0334 hours) = 12,991.9654 hours). Prior approval of 18,696.8190−12,991.9654 = 5,704.8536 fewer annual burden hours than previously reported for I/HH.)

Notice for Hearing or Prosecution 7 CFR 273.16(e)(3)

FNS estimates approximately 39,502.6667 respondents will respond 1 time for a notice for hearing or prosecution for a total of 39,502.6667 annual responses. FNS estimates that it will take approximately 1 minute (0.0167 hours) for a respondent to read a notice for hearing or prosecution for a total estimate of 659.6945 annual burden hours. This represents a change of 57.8818 fewer annual burden hours from the previously approved burden of 714.5763 hours due to a program adjustment. (39,502.6667 respondents * 1 response per respondent * 1 minute (0.0167 hours) = 659.6945 hours). Prior approval of 714.5763−659.6945 = 54.8818 fewer annual burden hours than previously reported for I/HH.)

Administrative Disqualification Hearing Waiver 7 CFR 273.16(i)(2)

FNS estimates approximately 14,542.6667 respondents will respond 1 time for an administrative disqualification hearing waiver for a total of 14,542.6667 annual responses. FNS estimates that it will take approximately 2 minutes (0.0334 hours) for a respondent to submit an administrative disqualification hearing waiver for a total estimate of 485.7251 annual burden hours. This represents a change of 37.4525 fewer annual burden hours from the previously approved burden of 523.1776 hours due to a program adjustment. (14,542.6667 respondents * 1 response per respondent * 2 minutes (0.0334 hours) = 485.7251 hours). Prior approval of 523.1776−485.7251 = 37.4525 fewer burden hours than previously reported for I/HH.)

Disqualification Consent Agreement 7 CFR 273.16(i)(2)

FNS estimates approximately 2,648.3333 respondents will respond 1 time for a disqualification consent agreement for a total of 2,648.3333 annual responses. FNS estimates that it will take approximately 2 minutes (0.0334 hours) for a respondent to submit a disqualification consent agreement for a total estimate of 88.4543 annual burden hours. This represents a change of 8.3389 fewer annual burden hours from the previously approved burden of 96.7932 hours due to a program adjustment. (2,648.3333 respondents * 1 response per respondent * 2 minutes (0.0334 hours) = 88.4543 hours). Prior approval of 96.7932−88.4543 = 8.3389 fewer burden hours than previously reported for I/HH.)

Action Taken on Hearing or Court Decision: For IPV Findings 7 CFR 273.16(e)(9)

FNS estimates approximately 36,583.3333 respondents will respond 1 time for an action taken on hearing or court decision for IPV findings for a total of 36,583.3333 annual responses. FNS estimates that it will take approximately 1 minute (0.0167 hours) for a respondent to submit an action taken on hearing or court decision for IPV findings for a total estimate of 610.9417 annual burden hours. This represents a change of 41.9782 fewer annual burden hours from the previously approved burden of 652.9199 hours due to a program adjustment. (36,583.3333 respondents * 1 response per respondent * 1 minute (0.0167 hours) = 610.9417 hours). Prior approval of 652.9199−610.9417 = 41.9782 fewer burden hours than previously reported for I/HH.)

Action Taken on Hearing or Court Decision: For No IPV Findings 7 CFR 273.16(e)(9)

FNS estimates approximately 4,405.6667 respondents will respond 1 time for an action taken on hearing or court decision for no IPV findings for a total of 4,405.6667 annual responses. FNS estimates that it will take approximately 1 minute (0.0167 hours) for a respondent to submit an action taken on a hearing or court decision for no IPV findings for a total estimate of annual 73.5746 burden hours. This represents a change of 11.9182 additional annual burden hours from the previously approved burden of 61.6564 hours due to a program adjustment. (4,405.6667 respondents * 1 response per respondent * 1 minute (0.0167 hours) = 73.5746 hours). Prior approval 61.6564−73.5746 = 11.9182 additional burden hours than previously reported for I/HH.)

Recordkeeping

State Agency Recordkeeping Burden

States have done these activities for many years. Based on prior experience in how long these activities take, FNS estimates it will take the 53 State agencies an average of 2 minutes (0.0334 hours) to perform the required recordkeeping. The following is a summary total for the activities described below.

Estimated Number of Recordkeepers: 53.

Estimated Total Records per Recordkeeper: 8,774.8490.

Estimated Total Annual Records: 465,066.9962.

Estimated Average # of Hours per Response: 0.0334.

Estimated Total Recordkeeping Hours: 15,533.2377.

Initiation of Overissuance Collection 7 CFR 272.1(f)

Based on many years of performing these activities, FNS estimates that 53 State agencies will perform recordkeeping for initiating a collection action approximately 7,339.2642 times for a total of 388,981.0000 annual records. FNS estimates that it will take approximately 2 minutes (0.0334 hours) for a State agency to perform recordkeeping for initiation of a collection action for a total of 12,991.9654 burden hours. This represents a change of 5,704.8536 fewer burden hours from the previously approved burden of 18,696.8190 hours due to program adjustments. (53 State agencies * 7,339.2642 records * 2 minutes (0.0334 hours) = 12,991.9654 hours). Prior approval of 18,696.8190 hours−12,991.9654 hours = 5,704.8536 fewer annual burden hours than previously reported.)

IPV Determinations 7 CFR 272.1(f)

FNS estimates that 53 State agencies will perform recordkeeping for IPVs 1,435.5848 times for a total of 76,085.9962 annual records. FNS estimates that it will take approximately 2 minutes (0.0334 hours) for a State agency to update records for IPVs for a total of 2,541.2723 annual burden hours. This represents a change of 193.7201 fewer annual burden hours from the previously approved burden of 2,734.9924 hours due to program adjustments. (53 State agencies * 1,435.5848 records * 2 minutes (0.0334 hours) = 2,541.2723 hours). Prior approval of 2,734.9924 hours−2,541.2723 = 193.7201 fewer annual burden hours than previously reported.)

Overall Grand Total Reporting and Recordkeeping Burden for All Affected Public

Estimated Overall Total Number of Respondents: 486,769.6667.

Estimated Overall Responses per Respondents: 3.0790.

Estimated Overall Total Annual Responses: 1,498,759.9962.

Estimated Overall Time per Response: 0.0666.

Estimated Overall Grand Total Annual Reporting and Recordkeeping Burden: 99,786.9643.

Respondent category (affected public) | Type of respondents | Burden activity | CFR Section of regulations | Estimated number of respondents | Responses per respondent | Total annual responses (Col. ExF) | Estimated avg. number of hours per response | Estimated total hours (Col. GxH)
REPORTING
State Agency Reporting
State Government | State Agency | Demand Letter for Overissuance | 273.18(a)(2) | 53 | 7,339.2642 | 388,981.0000 | 0.1336 | 51,967.8616
|  | Notice for Hearing or Prosecution | 273.16(e)(3) | 53 | 745.3333 | 39,502.6667 | 0.1336 | 5,277.5563
|  | Action Taken on Hearing or Court Decision: For IPV Findings | 273.16(e)(9) | 53 | 690.2516 | 36,583.3333 | 0.1670 | 6,109.4167
|  | Action Taken on Hearing or Court Decision: For No IPV Findings | 273.16(e)(9) | 53 | 83.1258 | 4,405.6667 | 0.0835 | 367.8732
|  | Electronic Disqualified Recipient System Breakout: For eDRS Reporting | 273.16(i)(2)(i) | 53 | 690.2516 | 36,583.3333 | 0.0835 | 3,054.7083
|  | Electronic Disqualified Recipient System Breakout: For Editing and Resubmission | 272.1(f)(3) | 53 | 82.8302 | 4,390.0000 | 0.1670 | 733.1300
|  | Electronic Disqualified Recipient System Breakout: For Penalty Checks using Mainframe | 273.16(i)(4) | 53 | 690.2516 | 36,583.3333 | 0.0501 | 1,832.8250
State Agency Reporting Sub-Total | 53 | 10,321.3082 | 547,029.3333 | 0.1268 | 69,343.3710
Individuals/Household Reporting
Individuals/Household | SNAP Households | Demand Letter for Overissuance | 273.18(a)(2) | 388,981.0000 | 1 | 388,981.0000 | 0.0334 | 12,991.9654
|  | Notice for Hearing or Prosecution | 273.16(e)(3) | 39,502.6667 | 1 | 39,502.6667 | 0.0167 | 659.6945
|  | Administrative Disqualification Hearing Waiver | 273.16(i)(2) | 14,542.6667 | 1 | 14,542.6667 | 0.0334 | 485.7251
|  | Disqualification Consent Agreement | 273.16(i)(2) | 2,648.3333 | 1 | 2,648.3333 | 0.0334 | 88.4543
|  | Action Taken on Hearing or Court Decision: For IPV Findings | 273.16(e)(9) | 36,583.3333 | 1 | 36,583.3333 | 0.0167 | 610.9417
|  | Action Taken on Hearing or Court Decision: For No IPV Findings | 273.16(e)(9) | 4,405.6667 | 1 | 4,405.6667 | 0.0167 | 73.5746
Individuals/Household Reporting Sub-Total | 486,663.6667 | 1 | 486,663.6667 | 0.0306 | 14,910.3556
Total Reporting | 486,716.6667 | 10,322.3082 | 1,033,693.0000 | 0.0815 | 84,253.7267
Recordkeeping
State Government | State Agency | Recordkeeping Breakout: For initiating Collection Action | 272.1(f) | 53 | 7,339.2642 | 388,981.0000 | 0.0334 | 12,991.9654
|  | Recordkeeping Breakout: For IPVs | 272.1(f) | 53 | 1,435.5848 | 76,085.9962 | 0.0334 | 2,541.2723
Total Recordkeeping | 53 | 8,774.8490 | 465,066.9962 | 0.0334 | 15,533.2377
TOTAL BURDEN
Grand Total Reporting and Recordkeeping | 486,769.6667 | 3.0790 | 1,498,759.9962 | 0.0666 | 99,786.9643

Tameka Owens,
Assistant Administrator, Food and Nutrition Service.

[FR Doc. 2024-10204 Filed 5-9-24; 8:45 am]

BILLING CODE 3410-30-P